DEPARTMENT OF ENERGY

Federal Energy Regulatory Commission

[Docket No. EG03-100-000, et al.]

AmerGen Energy Company, LLC, et al.; Electric Rate and Corporate Filings

September 12, 2003.

The following filings have been made with the Commission. The filings are listed in ascending order within each docket classification.

1. AmerGen Energy Company, LLC

[Docket No. EG03-100-000]

Take notice that on September 9, 2003, AmerGen Energy Company, LLC (AmerGen) submitted an application for Redetermination of Exemption Wholesale Generator status pursuant to Section 32 of the Public Utility Holding Company Act of 1935.

Comment Date: September 24, 2003.

2. Lowell Cogeneration Company Limited Partnership

[Docket No.ER97-2414-005]

Take notice that on August 29, 2003, Lowell Cogeneration Company Limited Partnership (LCCP), in response to a request from the Commission's Staff, has filed an amendment to its July 1, 2003, triennial market power update to include an update analysis of transmission market power and barriers to entry issues.

Comment Date: September 18, 2003.

3. Michigan Electric Transmission Company, LLC

[Docket No. ER03-692-002]

Take notice that on September 5, 2003, Michigan Electric Transmission Company, LLC (METC) submitted for filing a revised Facilities Agreement with City of Hart, Michigan in compliance with the July 10 Order of the Federal Energy Regulatory Commission in the above-captioned proceeding. The agreement is being submitted as a service agreement under the Midwest Independent Transmission System Operator, Inc. open access transmission tariff in compliance with that order.

METC states that a copy was served on all parties compiled on the official service list.

Comment Date: September 26, 2003.

4. New England Power Pool

[Docket No. ER03-1287-000]

Take notice that on September 3, 2003, the New England Power Pool (NEPOOL) Participants Committee filed for acceptance changes to NEPOOL Market Rule 1 and its Appendix F. The Participants Committee request that these changes be made effective simultaneously with changes filed to the Emergency Energy Agreement between New England Participants and New York Independent System Operator. The effective date requested for that agreement is September 4, 2003.

The Participants Committee states that copies of these materials were sent to the New England state governors and regulatory commissions and the Participants in NEPOOL.

Comment Date: September 24, 2003.

5. Rocky Mountain Energy Center, LLC

[Docket No. ER03-1288-000]

Take notice that on September 3, 2003, Rocky Mountain Energy Center, LLC (the Applicant) tendered for filing, under Section 205 of the Federal Power Act (FPA), a request for authorization to make wholesale sales of electric energy, capacity, replacement reserves, and ancillary services at market-based rates, to reassign transmission capacity, and to resell firm transmission rights. Applicant proposes to own and operate a nominally-rated 601 megawatt gas-fired, combined cycle electric generating facility in Weld County, Colorado.

Comment Date: September 24, 2003.

6. Superior Electric Power Corporation

[Docket No. ER03-1289-000]

Take notice that on September 4, 2003, Superior Electric Power Corporation (SEPC) tendered for filing pursuant to 18 CFR 35.15 a Notice of Cancellation of its Market-Based Rate Schedule, designated as FERC Electric Tariff, Original Volume No. 1, Original Sheet No. 1. The Rate Schedule was originally accepted for filing by the Commission on October 23, 1995 in Docket No. ER95-1747-000. SEPC further requests an effective date of October 1, 2003, for the Notice of Cancellation.

Comment Date: September 25, 2003.

7. New England Power Pool

[Docket No. ER03-1290-000]

Take notice that on September 3, 2003, the New England Power Pool (NEPOOL) Participants and the New York Independent System Operator, Inc. (NYISO) filed for approval their Emergency Energy Transactions Agreement (Agreement). The NEPOOL Participants and NYISO request that the Agreement be made effective on September 4, 2003.

The NEPOOL Participants state that copies of these materials were sent to the governors and the electric utility regulatory agencies for New York and the six New England states which comprise the NEPOOL Control Area, and the New England Conference of Public Utilities Commissioners, Inc.

Comment Date: September 25, 2003.

8. Southern California Edison Company

[Docket No. ER03-1291-000]

Take notice that on September 4, 2003, Southern California Edison Company (SCE) tendered for filing a Letter Agreement between SCE and the Wintec Energy, Ltd. (Wintec). SCE states that the purpose of the Letter Agreement is to provide an interim arrangement pursuant to which SCE will commence the engineering, design, and procurement of material and equipment for interconnection facilities and distribution system facilities required to provide interconnection of and Distribution Service to the Wintec III Project, an 11.57 MW wind generating project proposed to be developed by Wintec near SCE's Palm and Dillon Substations.

SCE states that copies of this filing were served upon the Public Utilities Commission of the State of California and Wintec.

Comment Date: September 25, 2003.

9. Florida Power & Light Company

[Docket No. ER03-1292-000

Take notice that on September 4, 2003, Florida Power & Light Company (FPL) filed amendments to its FERC Electric Rate Schedule, Original Volume No. 7 (Tariff) and Code of Conduct providing for sales of ancillary services in markets outside of peninsular Florida and resale of firm transmission rights under the Commission's standard terms applicable to parties authorized to sell power at market-based rates. The proposed amendments maintain the existing Tariff prohibition against the sale of power at market-based rates within peninsular Florida. A copy of this filing has been served on the Florida Public Service Commission.

Comment Date: September 25, 2003.

10. NEO Toledo-Gen LLC

[Docket No. ER03-1293-000]

Take notice that on September 5, 2003, NEO Toledo-Gen LLC tendered for filing pursuant to Section 35.15 of the Commission's regulations, 18 CFR 35.15, notices canceling NEO Toledo-Gen LLC's FERC Electric Tariff, Original Volume No. 1 and Service Agreement No. 1 under the tariff. NEO Toledo-Gen LLC requests that the cancellations be made effective September 5, 2003.

Comment Date: September 26, 2003.

11. Niagara Mohawk Power Corporation, a National Grid Company

[Docket No. ER03-1295-000]

Take notice that on September 5, 2003, Niagara Mohawk Power Corporation, a National Grid Company (Niagara Mohawk) tendered for filing pursuant to Section 35.15 of the Commission's regulations, 18 CFR 35.15, a Notice of Cancellation of Rate Schedule No. 312 under Niagara Mohawk's FERC Electric Tariff, Original Vol. No. 1. Niagara Mohawk requests that the Notice of Cancellation be deemed effective as of November 1, 2003.

Niagara Mohawk states it has served copies of the Notice of Cancellation upon the customer receiving service under Rate Schedule No. 312, the Power Authority of the State of New York and its customer, Oneida-Madison Electric Cooperative, Inc., as well as upon the New York Independent System Operator, and the New York Public Service Commission.

Comment Date: September 26, 2003.

12. Central Hudson Gas & Electric Corporation

[Docket No. ER03-1297-000]

Take notice that on September 5, 2003 Central Hudson Gas & Electric Corporation (Central Hudson) tendered for filing a Notice of Cancellation of Rate Schedule FERC No. 57, The Rate Schedule was filed in Docket No. ER80-471-000with an effective date of July 1, 1980.

Central Hudson states that the contract was terminated in accordance with its terms as a result of the sale, on January 30, 2001, of the Central Hudson electric generation units designated in the contract. Central Hudson requests waiver on the notice requirements set forth in 18 CFR 35.11 of the regulations to permit the notice of cancellation to be effective February 1, 2001.

Central Hudson states that a copy of its filing was served on Consolidated Edison Company of New York, Inc., and the State of New York Public Service Commission.

Comment Date: September 26, 2003.

13. Central Hudson Gas & Electric Corporation

[Docket No. ER03-1298-000]

Take notice that on September 5, 2003 Central Hudson Gas & Electric Corporation (Central Hudson) tendered for filing a Notice of Cancellation of Rate Schedule FERC No. 58. This Rate Schedule was filed in Docket No. ER80-477-000 with an effective date of July 1, 1980.

Central Hudson states that the contract was terminated in accordance with its terms as a result of the sale, on January 30, 2001, of the Central Hudson electric generation units designated in the contract. Central Hudson requests waiver on the notice requirements set forth in 18 CFR 35.11 of the regulations to permit the notice of cancellation to be effective February 1, 2001.

Central Hudson states that a copy of its filing was served on PSEG Energy Resources & Trade LLC and the State of New York Public Service Commission.

Comment Date: September 26, 2003.

14. Central Hudson Gas & Electric Corporation

[Docket No. ER03-1299-000]

Take notice that on September 5, 2003 Central Hudson Gas & Electric Corporation (Central Hudson) tendered for filing a Notice of Cancellation of Rate Schedule FERC No. 59. This Reate Schedule was filed in Docket No. ER80-496-000 with an date of effective July 1, 1980.

Central Hudson states that the contract was terminated in accordance with its terms as a result of the sale, on January 30, 2001, of the Central Hudson electric generation units designated in the contract. Central Hudson requests waiver on the notice requirements set forth in 18 CFR 35.11 of the regulations to permit the notice of cancellation to be effective February 1, 2001.

Central Hudson states that a copy of its filing was served on Philadelphia Electric Company and the State of New York Public Service Commission.

Comment Date: September 26, 2003.

15. Central Hudson Gas & Electric Corporation

[Docket No. ER03-1300-000]

Take notice that on September 5, 2003 Central Hudson Gas & Electric Corporation (Central Hudson) tendered for filing a Notice of Cancellation of Rate Schedule FERC No. 60. This Rate Schedule was filed in Docket No. ER80-548-000, with an effective date of July 1, 1980.

Central Hudson states that the contract was terminated in accordance with its terms as a result of the sale, on January 30, 2001, of the Central Hudson electric generation units designated in the contract. Central Hudson requests waiver on the notice requirements set forth in 18 CFR 35.11 of the regulations to permit the notice of cancellation to be effective February 1, 2001.

Central Hudson states that a copy of its filing was served on Northeast Utilities Service Co. and the State of New York Public Service Commission.

Comment Date: September 26, 2003.

16. Reliant Energy Desert Basin, LLC

[Docket No.ER03-1301-000]

Take notice that on September 5, 2003, Reliant Energy Desert Basin, LLC (Desert Basin) tendered for filing pursuant to Section 35.15 of the Commission's regulations, 18 CFR 35.15, a Notice of Cancellation of Service Agreement No. 2 under FERC Electric Tariff No. 1 between Desert Basin and Salt River Project Agricultural Improvement and Power District.

Comment Date: September 26, 2003.

17. Cinergy Services, Inc.

[Docket No. ER03-1302-000]

Take notice that on September 5, 2003, Cinergy Services, Inc.(Cinergy), on behalf of PSI Energy, Inc., a Cinergy Corp. utility operating company, tendered for filing a Notice of Termination of an Interconnection Agreement (IA) and Facility Construction Agreement (FCA) between Cinergy and Duke Energy Knox, LLC. Cinergy states that termination of the IA and FCA has been mutually agreed to by Cinergy and Duke Energy Knox, LLC.

Comment Date: September 26, 2003.

18. Cinergy Services, Inc.

[Docket No. ER03-1303-000]

Take notice that on September 5, 2003, Cinergy Services, Inc.(Cinergy), on behalf of PSI Energy, Inc., a Cinergy Corp. utility operating company, tendered for filing a Notice of Termination of an Interconnection Agreement (IA) and Facility Construction Agreement (FCA) between Cinergy and Cogentrix Lawrence County, LLC. Cinergy states that termination of the IA and FCA has been mutually agreed to by Cinergy and Cogentrix Lawrence County, LLC.

Comment Date: September 26, 2003.

19. Niagara Mohawk Power Corporation

[Docket No. ER03-1304-000]

Take notice that on September 5, 2003, Niagara Mohawk Power Corporation, a National Grid Company (Niagara Mohawk), tendered for filing Service Agreement No. 325 (Service Agreement) between Niagara Mohawk and The Village of Solvay, New York (Solvay) under the New York Independent System Operator's FERC Electric Tariff, Original Volume No.1. Niagara Mohawk states that under the Service Agreement, it will provide inter-connection service to Solvay for the planned Lakeland substation.

Comment Date: September 26, 2003.

20. Calpine Energy Services, L.P.

[Docket No. ER03-1305-000]

Take notice that on September 5, 2003, Calpine Energy Services, L.P. (the Applicant) tendered for filing, under Section 205 of the Federal Power Act, a rate schedule for reactive power from the Ontelaunee Energy Center. Applicant states that it proposes to sell reactive power to PJM Interconnection, L.L.C. from the Ontelaunee Energy Center at the same rate as has previously been accepted by the Commission.

Comment Date: September 26, 2003.

21. Tampa Electric Company

[Docket No. ER03-1306-000]

Take notice that on September 5, 2003, Tampa Electric Company (Tampa Electric) tendered for filing a notice of cancellation of a rate schedule of an agreement to provide non-firm transmission service between Tampa Electric and Seminole Electric Cooperative, Inc. (Seminole). Tampa Electric proposes that the cancellation be made effective on November 1, 2003.

Tampa Electric states that copies of the filing have been served on Seminole and the Florida Public Service Commission.

Comment Date: September 26, 2003.

22. Central Maine Power Company

[Docket No. ER03-1307-000] Please take notice that on September 5, 2003, Central Maine Power Company (CMP) tendered for filing an unexecuted Interconnection Agreement entered into with Androscoggin Reservoir Company, and an Agreement for Lease of Transmission Line. Service under the interconnection agreement will be provided pursuant to CMP's Open Access Transmission Tariff, designated rate schedule CMP—FERC Electric Tariff, Fifth Revised Volume No. 3, Original Service Agreement Number 193. The transmission line lease is designated by CMP as FERC Original Rate Schedule No. 202.

Comment Date: September 26, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-24149 Filed 9-18-03; 12:01 pm]

BILLING CODE 6717-01-P